DEPARTMENT OF AGRICULTURE

Farm Service Agency

Request for Extension of a Currently Approved Information Collection

AGENCY: Farm Service Agency, USDA.

ACTION: Notice and request for comments.

SUMMARY: In accordance with the Paperwork Reduction Act of 1995, this notice announces the Farm Service Agency's (FSA) intention to request an extension for a currently approved information collection. This information collection is used to support the USDA service center agencies (FSA, Natural Resources Conservation Service, and Rural Development) in conducting business and accepting signatures on certain documents via telefacsimile.

DATE: Comments on this notice must be received on or before October 2, 2000.

FOR FURTHER INFORMATION CONTACT: Virgil Ireland, Agricultural Program Specialist, Emergency Preparedness and Program Branch, Production, Emergencies, and Compliance Division, FSA, at (202) 720-5103.

SUPPLEMENTARY INFORMATION: Title: Facsimile Signature Authorization and Verification.

OMB Control Number: 0560-0203.

Expiration Date of Approval: October 31, 2000.

Type of Request: Extension of currently approved information collection.

Abstract: Persons wanting to conduct business and provide certain signed documents to the USDA service center agencies via telefacsimile machines must complete a FSA-237, Facsimile Signature Authorization and Verification, form. The FSA-237 serves as evidence that the person is willing to conduct business and provide signed documents through telefacsimile machines. The FSA-237 also provides the agencies a source to authenticate signatures and transactions in the event of errors or fraud that require legal remedies. The information collected on the FSA-237 is limited to the person's name, signature, and identification number. Persons must agree to the terms and conditions of conducting business via telefacsimile machines. Without the collection of this information, USDA service center agencies cannot ensure the authenticity of signatures received via telefacsimile unless they are supplemented with the original signature.

Estimate of Respondent Burden: Public reporting burden for this collection of information is estimated to average .02 hours per response.

Respondents: Individuals who have signature authority for themselves and/or also for partnerships, corporations, tribes, and other legal entities.

Estimated Number of Respondents: 2,598,266.

Estimated Number of Annual Responses per Respondent: Collection of the information is a one-time occurrence. The FSA-237 will be maintained indefinitely.

Estimated Total Annual Burden on Respondent: Collection of the information is a one-time occurrence with an estimated reporting burden of .02 hours per response.

Proposed topics for comment include: (a) whether the collection of information is necessary for the proper performance of the functions of the USDA service center the agency's estimate of burden, including the validity of the methodology and assumptions used; (c) methods to enhance the usefulness of the information collected; (d) accepting electronic signatures via the internet; or (e) ways to minimize the burden of the collection of the information on those who respond. Comments must be sent to the Desk Officer for Agriculture, Office of Information and Regulatory Affairs, Office of Management and Budget, Washington, DC 20503, and to Virgil Ireland, Agricultural Program Specialist, USDA-FSA-PECD, STOP 0517, 1400 Independence Avenue, SW, Washington, DC 20250; telephone (202) 720-5103; or telefacsimile (202) 690-3610. Copies of the information collection may be obtained from Mr. Ireland at the above address.

All responses to this notice will be summarized and included in the request for OMB approval. All comments will also become a matter of public record.

Signed at Washington, DC, on July 24, 2000.
Keith Kelly,
Administrator, Farm Service Agency.

[FR Doc. 00-19451 Filed 8-1-00; 8:45 am]

BILLING CODE 3410-05-P